SECURITIES AND EXCHANGE COMMISSION

Eagle Building Technologies, Inc. File No. 500-1; Order of Suspension of Trading

February 15, 2002.

It appears to the Securities and Exchange Commission that there is a lack of current and accurate information concerning the securities of Eagle Building Technologies, Inc. (“Eagle Building”), because of questions regarding the accuracy of assertions by Eagle Building, and by others, in documents sent to and statements made to market makers of the stock of Eagle Building, other broker-dealers, and investors concerning, among other things: (1) The company's foreign operations and (2) post-September 11 security measures marketed by Eagle Building, including an airport baggage security system, mail sterilization technology, and money laundering detection software.

The Commission is of the opinion that the public interest and the protection of investors require a suspension of trading in the securities of the above-listed company.

Therefore, it is ordered, pursuant to Section 12(k) of the Securities Exchange Act of 1934, that trading in the above-listed company is suspended for the period from 9:30 a.m. EST, February 15, 2002, through 11:59 p.m. EST, on March 1, 2002.

By the Commission.
Jonathan G. Katz,
Secretary.

[FR Doc. 02-4146 Filed 2-15-02; 4:08 pm]

BILLING CODE 8010-01-M